DEPARTMENT OF ENERGY

Federal Energy Regulatory Commission

[Docket No. CP09-455-000; Docket No. CP09-456-000]

Florida Gas Transmission Company, LLC; Transcontinental Gas Pipe Line Company, LLC; Florida Gas Transmission Company, LLC; Notice of Availability of the Environmental Assessment for the Proposed Mobile Bay Lateral Extension Project and the Pascagoula Expansion Project

April 9, 2010.

The staff of the Federal Energy Regulatory Commission (FERC or Commission) has prepared an environmental assessment (EA) of the Mobile Bay Lateral Extension Project (Mobile Bay Project) proposed by Florida Gas Transmission Company, LLC (FGT) and the Pascagoula Expansion Project proposed by FGT and Transcontinental Gas Pipe Line Company, LLC (Transco) in the above referenced dockets.

The EA assesses the potential environmental effects of the construction and operation of the proposed Mobile Bay Project and the Pascagoula Expansion Project in accordance with the requirements of the National Environmental Policy Act. The FERC staff concludes that approval of the proposed projects, with appropriate mitigating measures, would not constitute a major Federal action significantly affecting the quality of the human environment.

This EA was prepared in cooperation with the U.S. Army Corps of Engineers, the U.S. Fish and Wildlife Service (USFWS); and the Mississippi Department of Wildlife, Fisheries, and Parks.

The proposed Mobile Bay Project includes the following proposed facilities:

• Approximately 8.8 miles of 24-inch-diameter mainline pipeline, from near Grand Bay in Mobile County, Alabama to the existing FGT Compressor Station (CS) 44 in Mobile County, Alabama, (milepost [MP] 0.0);

• One new Meter and Regulation (M&R) (Grand Bay M&R Station) with pig launcher in Grand Bay, Alabama (MP 8.8);

• One new Over Pressure Protection Regulator Station with pig receiver in Citronelle, Alabama); and

• Modifications to the existing FGT CS 44.

The Pascagoula Expansion Project would consist of the following facilities:

• A receipt meter station near Pascagoula in Jackson County, Mississippi;

• Approximately 15.5 miles of 26-inch-diameter jointly owned pipeline from Jackson County, Mississippi to Grand Bay, Mobile County, Alabama;

• Modifications to FGT/Transco's existing Compressor Station 82 in Mobile County, Alabama; and

• Minor above-ground facilities.

The EA has been placed in the public files of the FERC. A limited number of copies of the EA are available for distribution and public inspection at: Federal Energy Regulatory Commission, Public Reference Room, 888 First Street, NE., Room 2A, Washington, DC 20426. (202) 502-8371.

Copies of the EA have been mailed to Federal, State, and local government representatives and agencies; elected officials; environmental and public interest groups; Native American Tribes; potentially affected landowners and other interested individuals and groups; newspapers and libraries in the project area; and parties to this proceeding. Any person wishing to comment on the EA may do so. To ensure consideration prior to a Commission decision on the proposal, it is important that we receive your comments before the date specified below.

Your comments should focus on the potential environmental effects, reasonable alternatives, and measures to avoid or lessen environmental impacts. The more specific your comments, the more useful they will be. To ensure that your comments are timely and properly recorded, please send in your comments so that they will be received in Washington, DC on or before May 10, 2010.

For your convenience, there are three methods in which you can use to submit your comments to the Commission. In all instances please reference the project docket numbers (CP09-455-000 and CP09-456-000) with your submission. The Commission encourages electronic filing of comments and has dedicated eFiling expert staff available to assist you at (202) 502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on Sign up or eRegister. You will be asked to select the type of filing you are making. A comment on a particular project is considered a “Comment on a Filing”; or

(3) You may file a paper copy of your comments at the following address: Kimberly D. Bose, Secretary, Federal Energy Regulatory Commission, 888 First St., NE., Room 1A, Washington, DC 20426.

Although your comments will be considered by the Commission, simply filing comments will not serve to make the commentor a party to the proceeding. Any person seeking to become a party to the proceeding must file a motion to intervene pursuant to Rule 214 of the Commission's Rules of Practice and Procedures (18 Code of Federal Regulations (CFR) 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at (866) 208-FERC or on the FERC Internet Web site (http://www.ferc.gov) using the eLibrary link. Click on the eLibrary link, click on “General Search” and enter the docket number excluding the last three digits in the Docket Number field (i.e. CP09-455 or CP09-456). Be sure you have selected an appropriate date range. For assistance, please contact FERC Online Support at FercOnlineSupport@ferc.gov or toll free at (866) 208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. 2010-8707 Filed 4-15-10; 8:45 am]

BILLING CODE 6717-01-P